OFFICE OF THE UNITED STATES TRADE REPRESENTATIVE

Technical Corrections to the Harmonized Tariff Schedule of the United States

AGENCY: Office of the United States Trade Representative.

ACTION: Notice.

SUMMARY: Pursuant to authority delegated to the United States Trade Representative (“USTR”) in Presidential Proclamation 6969 of January 27, 1997 (62 FR 4415), USTR is making technical corrections to subchapter III of chapter 99 of the Harmonized Tariff Schedule of the United States (HTS) as set forth in the annex to this notice. These modifications correct several inadvertent errors and omissions in subheadings 9903.72.30 through 9903.74.24 of the HTS so that the intended tariff treatment is provided. Pursuant to authority delegated to the USTR in Presidential Proclamation 7576 of July 3, 2002 (67 FR 45285), USTR has determined that it is appropriate to add Macedonia to the list of countries in subdivision (d)(i) of U.S. Note 11 to subchapter III of chapter 99 of the HTS (“Note 11”), and is modifying that note accordingly.

EFFECTIVE DATE: The corrections made in this notice are effective with respect to articles entered, or withdrawn from warehouse for consumption, on or after the dates set forth in the annex to this notice.

FOR FURTHER INFORMATION CONTACT: Office of Industry, Office of the United States Trade Representative, 600 17th Street, NW., Room 501, Washington DC, 20508. Telephone (202) 395-5656.

SUPPLEMENTARY INFORMATION: On March 5, 2002, pursuant to section 203 of the Trade Act of 1974, as amended (the “Trade Act”) (19 U.S.C. 2253), the President issued Proclamation 7529 (67 FR 10553), which imposed tariffs and a tariff-rate quota on (a) Certain flat steel, consisting of: slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (“HTS”) (“safeguard measures”) for a period of three years plus 1 day. Effective with respect to goods entered, or withdrawn from warehouse for consumption, on or after 12:01 a.m., EST, on March 20, 2002, Proclamation 7529 modified subchapter III of chapter 99 of the HTS so as to provide for such increased duties and a tariff-rate quota. Proclamation 7529 also delegated to the USTR the authority to consider requests for exclusion of a particular product submitted in accordance with the procedures set out in 66 FR 54321, 54322-54323 (October 26, 2001) and, upon publication in the Federal Register of a notice of his finding that a particular product should be excluded, to modify the HTS provision created by the annex to that proclamation to exclude such particular product from the pertinent safeguard measure. On April 5, 2002, USTR published a notice in the Federal Register excluding particular products from the safeguard measures, and modified the HTS accordingly. 67 FR 16484. On July 3, the President issued Proclamation 7576, which extended the period for granting exclusions until August 31, 2002. On July 12, 2002, and August 30, 2002, USTR published notices in the Federal Register excluding additional products from the safeguard measures, and modified the HTS accordingly. 67 FR 46221 and 67. FR 56182.

On March 19, 2002, June 4, 2002, July 12, 2002, and August 30, 2002, USTR published Federal Register notices (67 FR 12635, 67 FR 38541, 67 FR 46221, and 67 FR 56182, respectively) making technical corrections to subchapter III of chapter 99 of the HTS to remedy several technical errors introduced in the annex to Proclamation 7529. These corrections ensured that the intended tariff treatment was provided. Since the publication of these Federal Register notices, additional technical errors and omissions in subchapter III of chapter 99 have come to the attention of USTR. The annex to this notice makes technical corrections to the HTS to remedy these errors and omissions. In particular, the annex to this notice corrects errors in the descriptions of the physical dimensions or chemical composition of certain products excluded from the application of the safeguard measures.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the dates set forth in the Annex to this notice.

In clause (3) of Proclamation 7529, the President excluded imports of certain steel products that are the product of World Trade Organization (“WTO”) member developing countries, as provided in subdivision (d)(i) of Note 11. Proclamation 7576 authorized the USTR, upon publication of a notice in the Federal Register of his determination that it is appropriate to add WTO member developing countries to the list of countries in subdivision (d)(i) of U.S. Note 11, to add such countries to that list. I have determined that it is appropriate to add Macedonia to that list, and am modifying the list accordingly.

Robert B. Zoellick,
United States Trade Representative.

Annex

Subchapter III of chapter 99 of the Harmonized Tariff Schedule (HTS) is modified as set forth in this annex, with bracketed matter included to assist in the understanding of the modifications. The following provisions supersede matter now in the HTS, with the new subheadings being inserted by this notice set forth in columnar format and the material inserted in the HTS columns entitled “Heading/Subheading”, “Article Description”, “Rates of Duty 1 General”, “Rates of Duty 1 Special”, and “Rates of Duty 2”, respectively. The corrections to the text of individual subdivisions of U.S. note 11 to such subchapter III set forth herein, and to their associated subheadings, shall be effective with respect to covered goods entered, or withdrawn from warehouse for consumption, on or after 12:01 a.m. EDT on the date that each such subdivision of U.S. note 11 to subchapter III became effective, or in the case of corrections to text previously modified the effective date of such previous modification to such subdivision as appropriate. New subdivision (c)(ccviii) of U.S. note 11 shall be effective with respect to goods entered, or withdrawn from warehouse for consumption, on or after September 1, 2002. The new subdivisions (c)(ccix) to (c)(ccxi) of U.S. note 11 shall be effective with respect to goods entered, or withdrawn from warehouse for consumption, on or after March 20, 2002. The new subheadings established by item 3 of this annex and associated conforming changes shall be effective with respect to goods entered, or withdrawn from warehouse for consumption, on or after 12:01 a.m. EST, on the date that the related subdivision of such U.S. note 11 was or is established. The modification made by item 4 of this annex shall be effective with respect to goods entered, or withdrawn from warehouse for consumption, on or after October 15, 2002.

1. U.S. note 11 to such subchapter III is hereby modified as follows:

(i) In subdivision (b)(vii)(B), “SAE 1008” is deleted and “SAE 1010” is inserted in lieu thereof, the phrase “or equal to” is inserted immediately after the phrase “less than”, and “SAE standard 783” is deleted and the phrase “SAE standard 788” is inserted in lieu thereof;

(ii) in subdivision (b)(vii)(C), “and maximum 1 percent other materials” is deleted and “, less than 0.05 percent phosphorus, less than 0.35 percent iron and less than or equal to 1 percent other materials'' is inserted in lieu thereof, and “SAE standard 792” is deleted and “SAE standard 797” is inserted in lieu thereof;

(iii) in subdivision (b)(vii)(H), “SAE 1008” is deleted and “SAE 1010” is inserted in lieu thereof, “20 percent tin” is deleted and “19 percent to 20 percent tin” is inserted in lieu thereof, and “1 percent copper,” is deleted and “1 percent to 1.2 percent copper, less than” is inserted in lieu thereof;

(iv) in subdivision (b)(vii)(I), “SAE 1008” is deleted and “SAE 1010” is inserted in lieu thereof, “less than 1 percent in the aggregate of other materials” is deleted and “less than or equal to 1 percent in the aggregate of other materials” is inserted in lieu thereof, “SAE standard 792” is deleted and “SAE standard 797” is inserted in lieu thereof, and “38 percent or more but not more than 50 percent PTFE,” is deleted, and “, with the remainder made up of polytetrafluoroethylene (PTFE) (approximately 38 percent to 52 percent) and up to” is inserted before “2 percent in the aggregate of other materials'';

(v) in subdivision (b)(vii)(D), “SAE 1008” is deleted and “SAE 1010” is inserted in lieu thereof, “and less than 0.35 percent iron” is deleted and “, less than 1 percent zinc and less than or equal to 1 percent other materials'' is inserted in lieu thereof, “SAE standard 792” is deleted and “SAE standard 797” is inserted in lieu thereof, and “and the remainder (approx. 40-52 percent) of PTFE” is deleted and “and the remainder made up of PTFE (approximately 38 percent to 52 percent) and less than 2 percent in the aggregate of other materials'' inserted in lieu thereof;

(vi) in subdivision (b)(ix)(A), “+10%” is deleted and “±10%” is inserted in lieu thereof in three appearances, and “−0/+1.588 mm” is deleted and “±1.588 mm” is inserted in lieu thereof;

(vii) in subdivision (b)(xi)(B), the phrase “manganese 0.90 to 0.98” is deleted and “manganese not over 0.98” is inserted in lieu thereof; (viii) in subdivision (b)(xxii)(D), the phrase “manganese 1.4 to 1.7” is deleted and “manganese 1.4 to 1.8” is inserted in lieu thereof;

(ix) in subdivison(b)(xxiii)(C), the phrase “900 to 1,200 kg per cm width” is deleted and “143 to 179 kg per cm width” is inserted in lieu thereof; and the phrase “600 and 900 kg per cm width” is deleted and “89 and 143 kg per cm width” is inserted in lieu thereof;

(x) in subdivision (b)(xxvi)(B) and its paragraphs (I) through (IV), at each occurrence the word “coated” is replaced by the word “treated” and the word “coating” is replaced by the word “treatment';

(xi) in subdivison (b)(xxxii)(E), the phrase “± 0.2997 mm over” is deleted and “±0.7620 mm per” is inserted in lieu thereof; and “± 0.7620 mm over” is deleted and “±0.7620 mm per” is inserted in lieu thereof;

(xii) in subdivision (b)(xxxiv)(B), the phrase “, provided for in subheading 7226.92.80” is deleted

(xiii) in subdivision (b)(xxxiv)(M), the phrase “hardened and tempered” is deleted;

(xiv) in subdivision (b)(xxxiv)(N), “1075” is deleted and “1095” is inserted in lieu thereof;

(xv) in subdivision (b)(xxxvii), “DZ” is deleted and “DQ” is inserted in lieu thereof; the phrase “flatness to be 3.18 mm” is deleted and the phrase “center buckle to be 3.18 mm” is inserted in lieu thereof; the phrase “75 MG each side maximum” is deleted and the phrase “oil weight of 250 mg/m2 maximum on any one side” is inserted in lieu thereof; and the phrase “9071.85 kg maximum coil weights,” is deleted;

(xvi) in subdivision (b)(xliv)(A), the phrase “provided for in subheading 7326.90.85” is deleted;

(xvii) in subdivision (b)(xliv)(C), the phrase “entered in an aggregate annual quantity not to exceed 36,000 t during the 12-month period beginning on July 12, 2002 or July 12, 2003 or during the period July 12, 2004 through March 20, 2005, inclusive,” is inserted after the phrase “tin-coated steel,”, and the phrase “858.8375 mm or more but not over 862.0125 mm or a width of” is inserted after “of a width of'';

(xviii) in subdivision (c)(i)(A), the phrase “entered in an aggregate annual quantity not to exceed 45,000 t during the 12-month period beginning on July 12, 2002 or July 12, 2003 or during the period July 12, 2004 through March 20, 2005, inclusive,” is deleted;

(xix) in subdivision (c)(i)(B), the phrase “entered in an aggregate annual quantity not to exceed 5,700 t during the 12-month period beginning on July 12, 2002 or July 12, 2003 or during the period July 12, 2004 through March 20, 2005, inclusive,” is deleted; and in subdivision (c)(i)(C), the phrase “entered in an aggregate annual quantity not to exceed 17,500 t during the 12-month period beginning on July 12, 2002 or July 12, 2003 or during the period July 12, 2004 through March 20, 2005, inclusive,” is deleted;

(xx) in subdivision (c)(vi)(A), “carbon 0.90 to 1.30” is deleted and “carbon 0.090 to 0.130” is inserted in lieu thereof;

(xxi) in subdivision (c)(xii), the phrase “aluminum 0.070 to 0.100” is deleted and the phrase “aluminum not more than 0.100” is inserted in lieu thereof;

(xxii) in subdivisions (c)(xviii)(A), (B) and (C) at each occurrence “MN/6 (Cr” is deleted and “Mn/6 + (Cr” is inserted in lieu thereof;

(xxiii) in subdivision (c)(xviii)(A), the phrase “of 0.29 to 0.035” is deleted and “of 0.29 to 0.35” is inserted in lieu thereof;

(xxiv) in subdivision (c)(xxiii)(A), the phrase “sometimes referred to as (but not limited to) products known as Socatri 1000;” is inserted after the phrase “corrosive attack;';

(xxv) in subdivision (c)(xxiii)(B), the phrase “sometimes referred to as (but not limited to) products known as Cromax;” is inserted after the phrase “without corrosion;';

(xxvi) in subdivision (c)(xxviii), the phrase “semi-processed silicon electrical steel” is deleted, and:

(A) in paragraphs (A) and (B), “Products” is deleted and the phrase “Semi-processed silicon electrical steel products,” is inserted before “entered'';

(B) in paragraph (C), the phrase “fully processed” is inserted after “bearing,'';

(xxvii) in subdivision (c)(xxix)(A), “0264” is deleted and “0.264” is inserted in lieu thereof;

(xxviii) in subdivision (c)(xxxi)(B), the phrase “0.44 m x 82.87 cm” is deleted and “0.44 mm x 82.87 cm” is inserted in lieu thereof; and “0.38 mm x 91.76” is deleted and “0.38 mm x 91.76 cm” is inserted in lieu thereof;

(xxix) in subdivision (c)(xxxiii)(A), the text following “not revealing oxides” is deleted and “greater than 1 micrometer; and inclusion groups or clusters shall not exceed 5 micrometers in length;” is inserted in lieu thereof;

(xxx) in subdivision (c)(xxxiii)(C), the text following “not revealing oxides” is deleted and “greater than 1 micrometer; and inclusion groups or clusters shall not exceed 5 micrometers in length; or” is inserted in lieu thereof;

(xxxi) in subdivision (c)(xlii), the text is deleted and “Thermal refined, hot rolled, water quenched and tempered steel bar, the foregoing containing (percent by weight): carbon 0.43 to 0.48 and manganese 0.75 to 0.95; hardness 215 to 255 HV; microstructure with layer of tempered martensite for 5 mm to 8 mm followed by 1 mm of tempered martensite and transition products and general bar structure of pearlite and ferrite; maximum decarburization 0.8 percent of bar diameter; designated as X-075;” is inserted in lieu thereof;

(xxxii) in subdivision (c)(xliii)(C), the phrase “manganese 1.4 to 1.7” is deleted and “manganese 1.4 to 1.8” is inserted in lieu thereof;

(xxxiii) in subdivision (c)(xlvi)(C), “A1001CSB” is deleted and “A1011CSB” is inserted in lieu thereof;

(xxxiv) in subdivision (c)(xlviii), the phrase “not further worked that hot-rolled, with the following features: sulfur content 0.005 percent by weight maximum; elongation: 18 percent minimum/31 percent maximum for 1.6 mm to 2.0 mm, 20 percent minimum/32 percent maximum for 2.0 mm to 3.2 mm, 21 percent minimum/33 percent maximum for 3.2 mm to 6.3 mm, 22 percent minimum for 6.3 mm to 12.00 mm; total thickness tolerance: 0.20 mm maximum for 1.6 mm to 4.0 mm, 0.25 mm maximum for 4.0 mm to 6.0 mm, 0.30 mm maximum for 6.0 mm to 8.0 mm, 0.35 mm maximum for 8.0 mm to 12.0 mm; with” is deleted;

(xxxv) in subdivision (c)(l)(A), “158.4 MPa” is deleted and “758.4 MPa” is inserted in lieu thereof;

(xxxvi) in subdivision (c)(lv), the phrase “and entered in an aggregate annual quantity not to exceed 75,000 t during the 12-month period beginning on July 12, 2002 or July 12, 2003 or during the period July 12, 2004 through March 20, 2005, inclusive;” is deleted;

(xxxvii) in subdivision (c)(lxii), “flat-rolled tin mill products” is deleted and “flat-rolled products” is inserted in lieu thereof, and the word “minimum” is inserted after the phrase “21 percent';

(xxxviii) in subdivision (c)(lxiii), the text following “chlorine in water phase),” is deleted and “and exposed to a temperature of 45°C for 4 weeks, the eluted mass of the coating is less than 100 mg;” is inserted in lieu thereof;

(xxxix) in subdivision (c)(lxxii)(F), “strength 1,314 MPa” is deleted and “strength 1,413.4 MPa” is inserted in lieu thereof;

(xl) subdivision (c)(lxxiii) is modified to read as follows:

“(lxxiii) Flat-rolled products, designated as X-048, N-316 or N-472 and meeting the characteristics described below:

(A) Coated with zinc-aluminum allow consisting of 95 percent zinc and 5 percent aluminum by weight, sometimes referred to as (but not limited to) products known as “Ragal Galfan”; thickness not over 0.75 mm; width 1,220 mm or more;

(B) coated with hot dipped 95 percent zinc/5 percent aluminum/trace mischmetal alloy coating; sometimes referred to as (but not limited to) products known as “Galfan”; thickness 0.4572 mm to 1.4224 mm; with coating of GF 30, produced in accordance with ASTM A-875;

(C) ASTM A875 DDS interstitial-free (IFS) boron-treated for antibrittleness; yield strength 220 MPa maximum; tensile strength 270 to 350 MPa; elongation 34 percent minimum in a standard ASTM sample; with chemical composition (percent by weight): carbon not over 0.0044, manganese 0.70 to 0.20, boron 0.0002 to 0.0009, aluminum of 0.01 to 0.10, phosphorus not over 0.015 and sulfur not over 0.020; sometimes referred to as (but not limited to) products known as “Galfan”; or

(D) ASTM A875 interstitial-free (IFS); yield point 230 MPa minimum; tensile strength 325 to 400 MPa; elongation 34 percent minimum in a standard ASTM sample; Langford coefficient (n) 0.17; minimum anisotropy ratio (r) 1.5 minimum in transverse direction; with chemical composition (percent by weight): carbon not over 0.009, titanium 0.050 or greater and phosphorus 0.02 to 0.04; sometimes referred to as (but not limited to) products known as “Galfan”;”

(xli) in subdivision (c)(lxxxv), the phrase “sulfur not over 0.003” is deleted and “sulfur not over 0.009” is inserted in lieu thereof;

(xlii) in subdivisions (c)(lxxxix)(B), (E), (H) and (I), the phrase “0.6 percent carbon” is deleted and “0.28 percent carbon” is inserted in lieu thereof; and in subdivision (c)(lxxxix)(D), the phrase “0.06 percent carbon” is deleted and “0.28 percent carbon” is inserted in lieu thereof;

(xliii) in subdivision (c)(xcviii)(A), the phrase “DSE 220” is deleted and “SE 220” is inserted in lieu thereof; the phrase “yield strength 220 to 270 MPa” is deleted and “yield strength 220 to 280 MPa” is inserted in lieu thereof; and the phrase “tensile strength 320 to 370 MPa” is deleted and “tensile strength 320 to 380 MPa” is inserted in lieu thereof;

(xliv) in subdivision (c)(xcviii)(B), the phrase “HRB 50 to 65” is deleted and “HRB 45 to 65” is inserted in lieu thereof;

(xlv) in subdivision (c)(civ), the phrase “quantity not to exceed 3,000 t” is deleted and “entered in an aggregate quantity not to exceed 3,000 t during the 12-month period beginning on September 1, 2002 or September 1, 2003 or during the period from September 1, 2004 through March 20, 2005, inclusive” is inserted lieu thereof;

(xlvi) in subdivision (c)(cxi), “A1001CSB” is deleted and “A1011CSB” is inserted in lieu thereof;

(xlvii) in subdivision (c)(cxv), the phrase “aluminum 0.02 to 0.05” is deleted and “aluminum 0.01 to 0.05” is inserted in lieu thereof;

(xlviii) in subdivision (c)((cxvi), the phrase “with iron as the only remaining input” is deleted;

(xlix) in subdivision (c)(cxxiv), “minimum Charpy-notch” is deleted and “maximum Charpy-notch” is inserted in lieu thereof;

(l) in subdivision (c)(cxxx)(C), “0.967” is deleted and “0.96” is inserted in lieu thereof;

(li) in subdivision (c)(cxxx)(E), the phrase “lead 33 to 37, aromatic polyester 28 to 32 and other materials less than 2 percent with a balance of polytetrafluoroethylene (PTFE)” is deleted and the phrase “carbon 13 to 17, aromatic polyester 13 to 17, with a balance (approximately 66 to 74) of polytetrafluoroethylene (PTFE)” is inserted in lieu thereof;

(lii) in subdivision (c)(cxxx)(F), “1.22” is deleted and “1.2” is inserted in lieu thereof;

(liii) in subheading (c)(cxxxv), “N-376” is deleted and “N-367” is inserted in lieu thereof;

(liv) in subdivisions (c)(cxlviii)(A), (B), (C), (G), (H), (I), (J) and (L), the phrase “0.60 percent carbon” is deleted and “0.28 percent carbon” is inserted in lieu thereof;

(lv) subdivision (c)(cliv) is modified to read as follows:

“(cliv) certain stainless steel products, designated as N-378, as described below:

(A) Straight bars and rods, or round wire on spools or in coils, all the foregoing with the specifications below:

(I) Chemical composition (percent by weight): carbon not over 0.08, silicon not over 0.70, manganese not over 0.50, chromium 20.50 to 23.50, aluminum 5.0 to 6.0, and balance iron; sometimes referred to as (but not limited to) products known as “Kanthal APM.”;

(II) chemical composition (percent by weight): carbon not over 0.08, silicon not over 0.70, manganese not over 0.50, chromium 20.50 to 23.50, aluminum 4.30 to 5.30, and balance iron; sometimes referred to as (but not limited to) products known as “Kanthal D”;

(III) chemical composition (percent by weight): carbon not over 0.08, silicon not over 0.07, manganese not over 0.40, chromium 20.50 to 23.50, aluminum 4.80 to 5.8, and balance iron; sometimes referred to as (but not limited to) products known as “Kanthal AF”; or

(IV) chemical composition (percent by weight): carbon not greater than 0.08, silicon not greater than 0.70, manganese not greater than 0.40, aluminum 5.30 to 6.30, chromium 20.50 to 23.50, balance iron; sometimes referred to as (but not limited to) products known as “Kanthal A-1”; or

(B) round wire on spools or in coils, with the specifications below:

(I) Chemical composition (percent by weight): carbon not over 0.08, silicon not over 0.70, manganese not over 0.50, chromium 20.50 to 23.50, aluminum 4.60 to 5.60 and balance iron; sometimes referred to as (but not limited to) products known as “Kanthal DT”;

(II) chemical composition (percent by weight): carbon not over 0.10, manganese not over 1.00, silicon 1.60 to 2.50, chromium 18.0 to 21.0, nickel 34.0 to 37.0 and balance iron; sometimes referred to as (but not limited to) products known as “Nikrothal 40”;

(III) chemical composition (percent by weight): carbon not over 0.10, manganese not over 1.00, silicon 1.60 to 2.50, chromium 18.0 to 21.0, nickel 34.0 to 37.0 and balance iron; sometimes referred to as (but not limited to) products known as “Nikrothal 40”;

(IV) chemical composition (percent by weight): carbon not over 0.08, silicon not over 0.70, manganese not over 0.50, chromium 20.50 to 23.50, aluminum 4.80 to 5.80 and balance iron; sometimes referred to as (but not limited to) products known as “Kanthal A”; or

(V) chemical composition (percent by weight): carbon not over 0.08, silicon not over 0.70, manganese not over 0.50, chromium 14.00 to 16.00, aluminum 3.80 to 4.80 and balance iron; sometimes referred to as (but not limited to) products known as “Alkrothal 14”;

(lvi) in subdivision (c)(clix), the phrase “thickness 0.020 mm or more but not over 0.045 mm” is deleted and “thickness 0.508 mm or more but not over 1.143 mm” is inserted in lieu thereof;

(lvii) in subdivision (c)(clxiv)(A) (N-444), “tensile strength from 680 to 800 MPa; minimum yield strength 630 MPa, minimum elongation 10 percent,” is inserted before “number 3 slit edge”;

(lviii) in subdivision (c)(clxxiii), the phrase “during the 12-month period beginning on September 1, 2002 or September 1, 2003 or during the period from September 1, 2004 through March 20, 2005, inclusive” is inserted after “not to exceed 1,000 t”, and the phrase “RAGALLITEC DPF” is deleted and the phase “RAGAL LITEC DPF” is inserted in lieu thereof;

(lix) in subdivision (c)(clxxvi), the text is deleted and the following is inserted in lieu thereof:

Hot-rolled flat-rolled products, in coils, designated as N-316, the foregoing of API Grade X56 hydrogen-induced cracking resistant (NACE) steel with the following characteristics: tensile properties guaranteed per X56 for pipe with coil tensile properties of: yield strength 390 to 510 MPa, tensile strength 490 to 600 MPa, elongation not less than 27 percent, and resilience of 8 J at −40°C; thicknesses from 2.54 mm to 16 mm; width from 1.02 m to 2.01 m; with chemical composition (percent by weight): carbon not over 0.1, manganese not over 1.6, phosphorus not over 0.015, sulfur not over 0.02, silicon not over 0.3, aluminum not over 0.06, copper not over 0.1, nickel not over 0.1, chromium not over 0.1 and vanadium not over 0.05; and with a hydrogen-induced cracking guarantee with an average of 9 cuts of: NACE solution A pH 3: crack length ratio less than 10 percent, crack thickness ratio less than 3 percent and crack sensitivity ratio less than 1 percent; and NACE solution B pH 5: crack length ratio less than 5 percent, crack thickness ratio less than 1.5 percent and crack sensitivity ratio less than 1 percent;”;

(lx) in subheading (c)(clxxxv), “temper rolled; meeting SAEJ1392 O50; whether or not pickled and oiled or tension leveled” is deleted and “whether or not rolled or pickled and oiled or tension leveled, meeting SAEJ1392 O50;” is inserted in lieu thereof; “carbon 0.030 to 0.89” is deleted and “carbon 0.035 to 0.084” is inserted in lieu thereof; “manganese 0.190 to 0.309” is deleted and “manganese 0.195 to 0.304” is inserted in lieu thereof; “aluminum 0.010 to 0.060” is deleted and “aluminum 0.015 to 0.055” is inserted in lieu thereof; “niobium (columbium) 0.025 to 0.035” is deleted and “niobium (columbium) 0.020 to 0.030” is inserted in lieu thereof; “titanium 0.005 to 0.025” is deleted and “titanium not over 0.005” is inserted in lieu thereof; “thickness of 1.80 mm to 2.49 mm” is deleted and “thickness 1.96 mm to 3.98 mm” is inserted in lieu thereof; and “with tolerance of one half standard gauge tolerance specified in ASTM 568” is deleted and “with the following gauges (specified in millimeters, per ASTM 568): 1.96 −0/+0.17, 2.00 −0/+0.15, 2.13 −0/+ 0.20, 2.23 −0/+0.20, 2.28 −0/+0.20, 2.99 −0/+0.20, 3.07 −0/+0.20, 3.35 −0/+0.20, 3.40 −0/+0.20, 3.83 −0/+0.22, 3.98 −0/+0.25” is inserted in lieu thereof;

(lxi) in subdivision (c)(clxxxvii), the phrase “certified that coiled tubing will satisfy fatigue test (SPE papers 22820, 38407, and 54482) constantly;” is deleted and “for use in the production of tubing able to meet the requirements of the coiled tubing fatigue test in SPE papers 22820, 38407 and 54482;” is inserted in lieu thereof;

(lxii) in subdivision (c)(cxcv) “API6A and NACE MR0175;” is deleted and “API6A or NACE MR0175” is inserted in lieu thereof;

(lxiii) in subdivision (c)(cxcvi), the language “microstructure containing complex oxides of lime-silico-aluminate (comprising metallurgical phases anhorthite and/or pseudowollastonite); with calcium content from 30 to 300 ppm and oxygen from 70 to 300 ppm, and with calcium-to-oxygen ratio from 0.2 to 0.6; sometimes referred to as (but not limited to) products known as ‘UGIMA’ ” is deleted and “austenitic, ferritic or martensitic crystalline structure as applicable, and containing oxides of lime silicoaluminate that form the CaO-Al2O3-SiO2 ternary composition primarily comprising anorthite and/or pseudowollastonite phases; with calcium content between 30 and 100 ppm and oxygen content between 70 and 200 ppm; products referred to as ‘UGIMA’ ” is inserted in lieu thereof;

(lxiv) in subdivision (c)(cc)(A), “0.195 mm to 0.215 mm (tolerance +8/−5 percent),” is deleted and “0.195 mm (tolerance +5/−8 percent) or 0.215 mm (tolerance +5/−8 percent),” is inserted in lieu thereof;

(lxv) in subdivision (c)(cc)(B), the phrase “tolerance +8/−5 percent” is deleted and “tolerance +5/−8 percent” is inserted in lieu thereof;

(lxvi) in subdivision (c)(ccii)(A) the phrase “[add exception?]” is deleted, and “in any heat treatment class, or with outside diameters of greater than 60.96 cm in heat treatment classes 30 or higher;” is inserted in lieu thereof;

(lxvii) in subdivision (c)(ccvi), “12.00 mm or more but not over 30.00 mm” is deleted and “10.00 mm or more but not over 35.00 mm” is inserted in lieu thereof; and

(lxviii) at the end of subdivision (c) of such note 11, the following new subdivisions are inserted:

“(ccviii) Stainless steel bar, if entered in an aggregate quantity not to exceed 12 t during the 12-month period beginning on September 1, 2002 or September 1, 2003 or during the period from September 1, 2004 through March 20, 2005, inclusive; the foregoing with chemical composition (percent by weight): carbon 0.35 to 0.45, silicon 0.20 to 0.50, manganese 0.50 to 0.90, phosphorus not over 0.025, sulfur not over 0.0050, chromium 15.0 to 17.0, nickel 0.70 to 1.00, molybdenum 0.80 to 1.20, niobium (columbium) not over 0.080 and copper not over 0.30; sometimes referred to as (but not limited to) products known as M300 High Chromium Mold Steel; martensitic stainless; either (I) round with diameter from 12.7 mm to 762 mm, or (II) flat, thickness 11 mm to 610 mm, width 45 mm to 915 mm, vacuum degassed, forged or rolled; the foregoing designated as N-387;

(ccix) Cold-rolled, electrocoated on one side with zinc-nickel coating, steel products, with the following characteristics: thickness 0.70 mm (+/−0.04 mm) to 0.75 mm (+/−0.04 mm), width 1485 mm to 1570 mm; with chemical composition (percent by weight): carbon 0.0010 to 0.0023, sulfur not more than 0.006, manganese not more than 0.12; titanium stabilized; certified by the importer to have the following mechanical properties using JIS ( Japan Industry Standard) testing methods: elongation not less than 47 percent nor more than 51 percent, yield strength not less than 140 MPa nor more than 165 MPa, tensile strength 270 MPa to 300 MPa, N-Value, equal to or greater than 0.25 and R-Value equal or greater than 1.9 (in all directions: longitudinal, transverse and diagonal); the foregoing sometimes referred to as (but not limited to) products known as EDDQ Zn-Ni UC, and designated as N-380;

(ccx) Hot-rolled flat rolled products, alloy and non-alloy, not further worked than hot rolled, with the following characteristics: sulfur content not more than 0.005 percent by weight, tensile strength not less than 780 MPa, elongation at least 18 percent but not more than 31 percent for 1.6 mm to 2.0 mm thicknesses, at least 20 percent but not more than 32 percent for 2.0 mm to 3.2 mm thicknesses, at least 21 percent but not more than 33 percent for 3.2 mm to 6.3 mm thicknesses, at least 22 percent for 6.3 mm to 12.00 mm thicknesses; thickness tolerance: +/−0.10 mm for 1.6 mm to 4.0 mm thicknesses, +/−0.125 mm for 4.0 mm to 6.0 mm thicknesses, +/−0.15 mm for 6.0 mm to 8.0 mm thicknesses, +/−0.175 mm for 8.0 mm to 12.0 mm thicknesses; the foregoing designated as X-075;

(ccxi) Hot-rolled flat-rolled products, designated as N-316, dual phase with low silicon; with thickness of 2.5 mm to 6 mm; width not exceeding 1.46 m; tensile strength of 750 MPa to 900 MPa; elongation not less than 14 percent in thickness of 2.5 mm to 2.999 mm, elongation not less than 15 percent in thickness of 3 mm to 6 mm; with chemical composition (percent by weight): carbon 0.07 to 0.09, manganese 0.9 to 0.98, phosphorus not over 0.045, sulfur not over 0.002, silicon not over 0.25, aluminum 0.02 to 0.06, copper not over 0.10, nickel not over 0.10 and chromium not over 0.8; sometimes referred to as (but not limited to) products known as Usiphase D 80;

(ccxii) Ball-bearing steel (as defined in additional U.S. note 1(h) to chapter 72), bars and rods not further worked than cold-formed or cold finished, having a diameter less than 47.625 mm, the foregoing designated as X-015 or N-438;”

(lxix) in subdivision (d)(iv), the text “the phrase “products of Canada” “is deleted and “the reference to products of Canada or of Mexico” is inserted in lieu thereof, and “or in Mexico” is inserted after “in Canada”.

2. The enumerated subheadings in such subchapter III are modified as follows:

(i) Subheading 9903.72.55 is deleted;

(ii) in subheading 9903.72.67, “or X-011” is inserted after “X-061”;

(iii) in subheading 9903.72.68, the phrase “or 11(c)(ccx)” is inserted after “note 11(b)(xviii)”;

(iv) in subheading 9903.74.39, the phrase “or 11(c)(ccxi)” is inserted after “note 11(c)(lii)”;

(v) in subheading 9903.74.42, the phrase “, and entered in an aggregate annual quantity not to exceed 75,000 t” is deleted;

(vi) in subheading 9903.74.75, the phrase “or note 11(c)(ccxi)” is inserted after “note 11(c)(xlvi)”;

(vii) subheadings 9903.72.55, 9903.74.66 through 9903.74.73, 9903.74.92, 9903.74.93, 9903.75.11, 9903.75.33, 9903.75.34, 9903.75.35, and 9903.75.47 are deleted;

(viii) the second appearing subheading 9903.74.82 is redesignated as 9903.75.13;

(ix) the second appearing subheading 9903.74.83 is redesignated as 9903.75.14;

(x) the second appearing subheading 9903.77.86 is redesignated as 9903.76.36;

(xi) in subheading 9903.75.04, the phrase “and entered in an aggregate quantity not to exceed 1,000 t during a time period specified in such note” is inserted after “subchapter”;

(xii) in subheading 9903.76.10, “(cv)” is deleted and “(civ)” is inserted in lieu thereof;

(xiii) in subheading 9903.76.29, “11(c)(lxvii)” is deleted and “11(c)(lxvii)(A)” is inserted in lieu thereof;

(xiv) the superior text to subheading 9903.73.42 is modified by deleting the phrase “not further worked than hot-rolled, hot-drawn or extruded”;

(xv) in subheading 9903.76.79, the phrase “and entered in an aggregate quantity not to exceed 300 t during a time period specified in such note” is inserted after “subchapter”;

(xvi) in subheading 9903.77.50, the phrase “and entered in an aggregate quantity not to exceed 3,000 t during a time period specified in such note” is inserted after “subchapter”;

(xvii) in subheading 9903.77.68, the phrase “and entered in an aggregate quantity not to exceed 5 t during a time period specified in such note” is inserted after “subchapter”;

(xviii) in subheading 9903.77.85, “(v)” is deleted and “(xiv)” is inserted in lieu thereof; and

(xix) in subheading 9903.76.20, the phrase “and entered in an aggregate quantity not to exceed 1,000 t during a time period specified in such note” is inserted after “subchapter”.

3. The following new subheadings are inserted in numerical sequence:

| [Goods * * *:]
“9903.74.50 | Enumerated in U.S. note 11(c)(xviii)(A) to this subchapter, and entered in an aggregate annual quantity not to exceed 1,953 t | No change | No change | No change
9903.74.51 | Enumerated in U.S. note 11(c)(xviii)(B) to this subchapter, and entered in an aggregate annual quantity not to exceed 1,000 t | No change | No change | No change
9903.74.52 | Enumerated in U.S. note 11(c)(xviii)(C) to this subchapter, and entered in an aggregate annual quantity not to exceed 1,000 t | No change | No change | No change
9903.74.53 | Enumerated in U.S. note 11(c)(xix) to this subchapter, and entered in an aggregate annual quantity not to exceed 3,850 t | No change | No change | No change
9903.74.54 | Enumerated in U.S. note 11(c)(xx)(A) or (B) to this subchapter | No change | No change | No change
9903.74.55 | Enumerated in U.S. note 11(c)(xx)(C) to this subchapter, and entered in an aggregate annual quantity to exceed 439 t | No change | No change | No change
9903.74.56 | Enumerated in U.S. note 11(c)(xx)(D) to this subchapter, and entered in an aggregate annual quantity not to exceed 432 t | No change | No change | No change
9903.74.57 | Enumerated in U.S. note 11(c)(xx)(E) to this subchapter, and entered in an aggregate annual quantity not to exceed 6,500 t | No change | No change | No change
9903.74.58 | Enumerated in U.S. note 11(c)(ccx) to this subchapter | No change | No change | No change
9903.76.21 | Enumerated in U.S. note 11(c)(ccix) to this subchapter | No change | No change | No change
9903.76.22 | Enumerated in U.S. note 11(c)(cxxx) to this subchapter | No change | No change | No change
9903.76.37 | Enumerated in U.S. note 11(c)(lxvii)(B) to this subchapter | No change | No change | No change
9903.77.02 | Enumerated in U.S. note 11(c)(ccxii) to this subchapter | No change | No change | No change
9903.77.77 | Enumerated in U.S. note 11(c)(cliv)(A) to this subchapter | No change | No change | No change
9903.77.78 | Enumerated in U.S. note 11(c)(ccviii) to this subchapter and entered in an aggregate quantity not to exceed 12 t during a time period specified in such note | No change | No change | No change
9903.78.15 | Enumerated in U.S. note 11(c)(cliv) to this subchapter | No change | No change | No change”
Conforming changes:
Subheading 9903.72.57 is modified by deleting “9903.74.47” and by inserting in lieu thereof “9903.74.58”.
Subheading 9903.72.78 is modified by deleting “9903.75.11” and by inserting in lieu thereof “9903.75.14”.
Subheading 9903.73.18 is modified by deleting “9903.76.20” and by inserting in lieu thereof “9903.76.22”.
Subheading 9903.73.35 is modified by deleting “9903.76.36” and by inserting in lieu thereof “9903.76.37”.
Subheading 9903.73.55 is modified by deleting “9903.77.01” and by inserting in lieu thereof “9903.77.02”.
Subheading 9903.74.01 is modified by deleting “9903.77.76” and by inserting in lieu thereof “9903.77.78”.
Subheading 9903.74.12 is modified by deleting “subheading 9903.77.85” and by inserting in lieu thereof “subheadings 9903.77.85 through 9903.77.86”.
Subheading 9903.74.18 is modified by deleting “9903.78.14” and by inserting in lieu thereof “9903.78.15”.

4. U.S. note 11(d)(i) to such subchapter III is modified by inserting in alphabetical sequence, in the enumeration of developing countries that are members of the World Trade Organization and that are excluded from the import relief set forth in subchapter III, “Macedonia,”.

[FR Doc. 02-28866 Filed 11-13-02; 8:45 am]

BILLING CODE 3190-01-P